COMMITTEE FOR PURCHASE FROM PEOPLE WHO ARE BLIND OR SEVERELY DISABLED

Procurement List; Additions and Deletions

AGENCY: Committee for Purchase From People Who Are Blind or Severely Disabled.

ACTION: Additions to and Deletions from the Procurement List.

SUMMARY: This action adds products to the Procurement List that will be furnished by nonprofit agencies employing persons who are blind or have other severe disabilities, and deletes products and a service from the Procurement List previously furnished by such agencies.

DATES: Effective Date: 7/7/2014.

ADDRESSES: Committee for Purchase From People Who Are Blind or Severely Disabled, 1401 S. Clark Street, Suite 10800, Arlington, Virginia 22202-4149.

FOR FURTHER INFORMATION CONTACT: Barry S. Lineback, Telephone: (703) 603-7740, Fax: (703) 603-0655, or email CMTEFedReg@AbilityOne.gov.

SUPPLEMENTARY INFORMATION:

Additions

On 11/29/2013 (78 FR 71582-71583), 4/4/2014 (79 FR 18891-18892) and 4/11/2014 (79 FR 20190-20191), the Committee for Purchase From People Who Are Blind or Severely Disabled published notices of proposed additions to the Procurement List.

After consideration of the material presented to it concerning capability of qualified nonprofit agencies to provide the products and impact of the additions on the current or most recent contractors, the Committee has determined that the products listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 USC 8501-8506) in connection with the products proposed for addition to the Procurement List.

End of Certification

Accordingly, the following products are added to the Procurement List:

Products

Scissor/Shear, Titanium Blade

NSN: 5110-00-NIB-0041—Straight handle, 8″

NSN: 5110-00-NIB-0042—Non-Stick, Straight handle, 8″

NSN: 5110-00-NIB-0043—Straight handle, 7″

NSN: 5110-00-NIB-0044—Bent handle, 8″

NSN: 5110-00-NIB-0067—Non-Stick, Bent handle, 8″

NPA: Winston-Salem Industries for the Blind, Inc., Winston-Salem, NC

Contracting Activity: General Services Administration, Tools Acquisition Division I, Kansas City, MO

Coverage: A-List for the Total Government Requirement as aggregated by the General Services Administration.

Belt, Rigger's, Fire Resistant Environmental Ensemble (FREE)

NSN: 8415-01-576-9708—Size X-Small

NSN: 8415-01-576-9712—Size Small

NSN: 8415-01-576-9715—Size Medium

NSN: 8415-01-576-9729—Size Large

NSN: 8415-01-576-9744—Size X-Large

NSN: 8415-01-576-9884—Size XX-Large

NPA: Travis Association for the Blind, Austin, TX

Contracting Activity: Army Contracting Command—Aberdeen Proving Ground, Natick Contracting Division, Natick MA

Coverage: C-List for 100% of the requirement of the Department of the Army, as aggregated by the Army Contracting Command—Aberdeen Proving Ground, Natick Contracting Division, Natick MA.

Sorbent, Hazardous Material, Granular, Biobased

NSN: 4235-01-572-3902—4 LB

NSN: 4235-01-572-3892—20 LB

NSN: 4235-01-599-3952—40 LB

NPA: San Antonio Lighthouse for the Blind, San Antonio, TX

Contracting Activity: Defense Logistics Agency Aviation, Richmond, VA

Coverage: B-List for the Broad Government Requirement as aggregated by the Defense Logistics Agency, Richmond, VA.

NSN: MR 10654—Bottle, Single Wall

NPA: Winston-Salem Industries for the Blind, Inc., Winston-Salem, NC

Contracting Activity: Defense Commissary Agency, Fort Lee, VA

Coverage: C-List for the requirements of military commissaries and exchanges as aggregated by the Defense Commissary Agency.

NSN: 6545-00-NIB-0114—Surgical Non-Standard Make-To-Order (MTO) Medical Kits

NPAs: National Industries for the Blind, Alexandria, VA (Prime Contractor) L.C. Industries for the Blind, Inc., Durham, NC (Subcontractor)

Contracting Activity: Defense Logistics Agency Troop Support, Philadelphia, PA

Coverage: C-List for 100% of the requirement of the Department of Defense, as aggregated by the Defense Logistics Agency Troop Support, Philadelphia, PA.

Deletions

On 4/21/2014 (79 FR 22104-22105), 4/25/2014 (79 FR 22951-22952) and 5/2/2014 (79 FR 25115), the Committee for Purchase From People Who Are Blind or Severely Disabled published notices of proposed deletions from the Procurement List.

After consideration of the relevant matter presented, the Committee has determined that the products and a service listed below are no longer suitable for procurement by the Federal Government under 41 USC 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and a service to the Government.

3. There are no known regulatory alternatives which would accomplish the objectives of the Javits-Wagner-O'Day Act (41 USC 8501-8506) in connection with the products and a service deleted from the Procurement List.

End of Certification

Accordingly, the following products and a service are deleted from the Procurement List:

Products

Calendars

7530-01-587-9589 DAYMAX System, 2013, JR Planner, 6-hole, Burgundy

7530-01-587-9730 DAYMAX System, 2013, Planner, 7-hole, Desert Camouflage

7530-01-587-9730L DAYMAX System, 2013, Planner, 7-hole, Desert Camouflage

7530-01-587-9702 DAYMAX System, 2013, LE Planner, 3-hole, Navy

7530-01-587-9713 DAYMAX System, 2013, JR Deluxe Planner, 6-hole, Digital Camouflage, Black

7530-01-587-9716 DAYMAX System, 2013, GLE Planner, 7-hole, Navy

7530-01-587-9716L DAYMAX System, 2013, GLE Planner, 7-hole, Navy w/logo

7530-01-587-9713L DAYMAX System, 2013, JR Deluxe Planner, 6-hole, Digital Camouflage, Black w/logo

7530-01-587-9702L DAYMAX System, 2013, LE Planner, 3-hole, Navy w/logo

7530-01-587-9639 DAYMAX System, 2013, GLE Planner, 7-hole, Burgundy

7530-01-587-9671 DAYMAX System, 2013, GLE Planner, 7-hole, Black

7530-01-587-9691 DAYMAX System, 2013, JR Deluxe Planner, 6-hole, Black

7530-01-587-9698 DAYMAX System, 2013, JR Planner, 6-hole, Black

7530-01-587-9698L DAYMAX System, 2013, JR Planner, 6-hole, Black w/logo

7530-01-587-9697 DAYMAX System, 2013, JR Planner, 6-hole, Navy

7530-01-587-9697 DAYMAX System, 2013, JR Planner, 6-hole, Navy w/logo

7530-01-587-9691L DAYMAX System, 2013, JR Deluxe Planner, 6-hole, Black w/logo

7530-01-587-9671L DAYMAX System, 2013, GLE Planner, 7-hole, Black w/logo

7530-01-587-9639L DAYMAX System, 2013, GLE Planner, 7-hole, Burgundy w/logo

7530-01-587-9631 DAYMAX System, 2013, IE Planner, 3-hole, Navy

7530-01-587-9631L DAYMAX System, 2013, IE Planner, 3-hole, Navy w/logo

7530-01-587-9610 DAYMAX System, 2013, IE Planner, 3-hole, Burgundy

7530-01-587-9614 DAYMAX System, 2013, LE Planner, 3-hole, Black

7530-01-587-9629 DAYMAX System, 2013, IE Planner, 3-hole, Black

7530-01-587-9629L DAYMAX System, 2013, IE Planner, 3-hole, Black w/logo

7530-01-587-9614L DAYMAX System, 2013, LE Planner, 3-hole, Black w/logo

7530-01-587-9610L DAYMAX System, 2013, IE Planner, 3-hole, Burgundy w/logo

7530-01-587-9589L DAYMAX System, 2013, JR Planner, 6-hole, Burgundy w/logo

7530-01-587-9588 DAYMAX System, 2013, LE Planner, 3-hole, Burgundy

7530-01-587-9588L DAYMAX System, 2013, LE Planner, 3-hole, Burgundy w/logo

7530-01-588-1508 DAYMAX System, 2014, Planner, 7-hole, Digital Camouflage

7530-01-588-1508L DAYMAX System, 2014, Planner, 7-hole, Digital Camouflage w/logo

7510-01-545-3772 DAYMAX System, 2013, Calendar Pad, Type II

7510-01-545-3779 DAYMAX System, 2013, Calendar Pad, Type I

7530-01-545-3755 DAYMAX System, 2013, Appointment Refill

7510-01-588-0112 DAYMAX System, 2013, Tabbed Monthly, JR, 6-hole

7510-01-588-0127 DAYMAX System, 2013, Week at a View, GLE, 7-hole

7510-01-588-0139 DAYMAX System, 2013, Month at a View, IE/LE, 3-hole

7510-01-588-0148 DAYMAX System, 2013, Tabbed Monthly, IE/LE, 3-hole

7510-01-588-0157 DAYMAX System, 2013, Day at a View, GLE, 7-hole

7510-01-588-0162 DAYMAX System, 2013, Week at a View, IE/LE, 3-hole

7510-01-588-0178 DAYMAX System, 2013, Tabbed Monthly, GLE, 7-hole

7510-01-588-0186 DAYMAX System, 2013, Month at a View, GLE, 7-hole

7510-01-588-0199 DAYMAX System, 2013, Day at a View, IE/LE, 3-hole

7530-01-588-0104 DAYMAX System, 2013, DOD Planner, 3-hole, Burgundy

7530-01-588-0104L DAYMAX System, 2013, DOD Planner, 3-hole, Burgundy w/logo

7530-01-588-0121 DAYMAX System, 2013, Planner, 7-hole, Woodland Camouflage

7530-01-588-0121L DAYMAX System, 2013, Planner, 7-hole, Woodland Camouflage w/logo

7530-01-588-1523 DAYMAX System, 2013, Planner, 7-hole, Digital Camouflage

7530-01-588-1523L DAYMAX System, 2013, Planner, 7-hole, Digital Camouflage w/logo

7510-01-589-0592 DAYMAX System, Replacement Binder, GLE, 7-hole, Zipper Closure, Digital Camouflage

NPA: Easter Seals Western and Central Pennsylvania, Pittsburgh, PA

Contracting Activity: General Service Administration, New York, NY

Strap, Webbing

NSN: 5340-00-235-4434

NPA: Huntsville Rehabilitation Foundation, Huntsville, AL

Contracting Activity: Defense Logistics Agency Troop Support, Philadelphia, PA

Service

Service Type/Location: Janitorial/Custodial, U.S. Federal Building, Courthouse and Post Office, 1400 E. Touhy Avenue, Council Bluffs, IA.

NPA: Nishna Productions, Inc., Shenandoah, IA

Contracting Activity: General Services Administration, FPDS Agency Coordinator, Washington, DC

Barry S. Lineback,
Director, Business Operations.

[FR Doc. 2014-13246 Filed 6-6-14; 8:45 am]

BILLING CODE 6353-01-P